DEPARTMENT OF HOUSING AND URBAN DEVELOPMENT

[Docket No. FR-7080-N-31]

30-Day Notice of Proposed Information Collection: Implementation of the Violence Against Women Reauthorization Act of 2013; OMB Control No.: 2577-0286

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: August 15, 2024.

ADDRESSES: Interested persons are invited to submit comments regarding this proposal.

Written comments and recommendations for the proposed information collection can be sent within 30 days of publication of this notice to www.reginfo.gov/public/do/PRAMain. Find this particular information collection by selecting “Currently under 30-day Review—Open for Public Comments” or by using the search function. Interested persons are also invited to submit comments regarding this proposal by name and/or OMB Control Number and should be sent to: Colette Pollard, Reports Management Officer, REE, Department of Housing and Urban Development, 451 7th Street SW, Room 8210, Washington, DC 20410-5000; telephone (202) 402-3400 (this is not a toll-free number) or email: PaperworkReductionActOffice@hud.gov.

FOR FURTHER INFORMATION CONTACT: Colette Pollard, Reports Management Officer, REE, Department of Housing and Urban Development, 451 7th Street SW, Room 8210, Washington, DC 20410; email; PaperworkReductionActOffice@hud.gov or telephone (202) 402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A. The Federal Register notice that solicited public comment on the information collection for a period of 60 days was published on November 4, 2022, at 87 FR 66723.

A. Overview of Information Collection

Title of Information Collection: Implementation of the Violence Against Women Reauthorization Act of 2013.

OMB Approval Number: 2577-0286.

Type of Request: Reinstatement, with changes and an additional form, of previously approved collection for which approval has expired.

Form Numbers: HUD-5380, HUD-5381, HUD-5382, HUD-5383, and VAWA Emergency Transfer Data Collection Form.

Description of the need for the information and proposed used: The Violence Against Women Reauthorization Act of 2013 (VAWA 2013), Public Law 113-4, 127 Stat. 54, reauthorized and amended the Violence Against Women Act of 1994, as previously amended (title IV, sec. 40001-40703 of Pub. L. 103-322, 42 U.S.C. 13925 et seq.). In doing so, VAWA 2013 expanded the VAWA protections that applied to HUD's Section 8 and Public Housing programs and widened the range of HUD's housing programs that are subject to VAWA protections. The provisions of VAWA 2013 that afford protections to victims of domestic violence, dating violence, sexual assault, and stalking are statutory and statutorily directed to be implemented. Accordingly, on November 16, 2016, HUD published a final rule at 81 FR 80724 (VAWA Rule), implementing VAWA 2013's provisions in its housing programs. The Violence Against Women Act Reauthorization Act of 2022 (VAWA 2022) was signed into law on March 15, 2022. However, certain provisions of VAWA 2022 are not self-implementing. Once VAWA 2022 has been implemented, this PRA will be further updated, as appropriate.

The HUD programs that include VAWA protections as required by VAWA 2013 and the VAWA Rule include:

• Section 202 Supportive Housing for the Elderly (12 U.S.C. 1701q);

• Section 811 Supportive Housing for Persons with Disabilities (42 U.S.C. 8013);

• Housing Opportunities for Persons with AIDS (HOPWA) program (42 U.S.C. 12901 et seq.);

• HOME Investment Partnerships (HOME) program (42 U.S.C. 12741 et seq.);

• Homeless programs under title IV of the McKinney-Vento Homeless Assistance Act (42 U.S.C. 11360 et seq.), including the Emergency Solutions Grants (ESG) program; the Continuum of Care (CoC) program; and the Rural Housing Stability Assistance program;

• Multifamily rental housing under section 221(d)(3) of the National Housing Act (12 U.S.C. 17151(d)) with a below-market interest rate (BMIR) pursuant to section 221(d)(5);

• Multifamily rental housing under section 236 of the National Housing Act (12 U.S.C. 1715z-1);

• HUD programs assisted under the United States Housing Act of 1937 (42 U.S.C. 1437 et seq.); specifically, public housing under section 6 of the 1937 Act (42 U.S.C. 1437d), tenant-based and project-based rental assistance under section 8 of the 1937 Act (42 U.S.C. 1437f), and the Section 8 Moderate Rehabilitation Single Room Occupancy; and

• The Housing Trust Fund (12 U.S.C. 4568).

To assure covered housing providers (CHPs) under the programs listed above comply with VAWA 2013 and the VAWA Rule, the Department must provide to all CHPs certain documents for use, as follows:

• Form HUD-5380: Notice of Occupancy Rights Under the Violence Against Women Act. HUD must provide this notice to CHPs, which must, in turn, distribute it to tenants and to applicants at the times specified in the VAWA Rule at minimum to ensure they are aware of their rights under VAWA and its implementing regulations. CHPs must add specific information to this form as indicated by the imbedded instructions, including contact information of the CHP and information on how to request a VAWA emergency transfer.

• Form HUD-5381: Model Emergency Transfer Plan for Victims of Domestic Violence, Dating Violence, Sexual Assault, or Stalking. HUD must provide this model document to CHPs. CHPs must develop their own VAWA Emergency Transfer Plans, as required by the VAWA Rule, must make their VAWA Emergency Transfer Plan available upon request, and, when feasible, must make their plan publicly available. CHPs may, at their discretion, use HUD-5381 to develop these plans. This model contains only general provisions of an emergency transfer plan that apply across the covered HUD programs. Adoption of this model plan without further customization and information concerning how the emergency transfer plan will operate will not be sufficient to meet a covered housing provider's responsibility to adopt an emergency transfer plan. CHPs must consult the applicable regulations and are encouraged to consult program-specific HUD guidance when developing their own VAWA emergency transfer plans to ensure those plans contain all required elements.

• Form HUD-5382: Certification of Domestic Violence, Dating Violence, Sexual Assault, or Stalking, and Alternate Documentation. HUD must provide this certification form to CHPs, which must, in turn, distribute it to tenants and applicants as a required complement and extension of the required Notice of Occupancy Rights Under the Violence Against Women Act (Form HUD-5380). As further explained on the Form HUD-5382, an applicant or tenant who is asking for or about VAWA protections may choose to fill out and submit this certification form as one of the four legally acceptable options the VAWA Rule provides for answering any CHP's written request for documentation that an individual is or has been a victim of domestic violence, dating violence, sexual assault, or stalking or that a covered incident or incidents of domestic violence, dating violence, sexual assault, and stalking occurred.

• Form HUD-5383: Emergency Transfer Request for Certain Victims of Domestic Violence, Dating Violence, Sexual Assault, or Stalking. HUD provides this model emergency transfer request form to CHPs. CHPs may, at their discretion, distribute it to tenants. This form serves as a model for use by a CHP to accept requests for emergency transfers under its required VAWA Emergency Transfer Plan.

• VAWA Emergency Transfer Data Collection Form: HUD must provide the Emergency Transfer Data Collection form to CHPs, and it is the responsibility of CHPs to complete and submit this form to HUD, for purposes of fulfilling recordkeeping and reporting requirements. CHPs must keep a record of all emergency transfers requested under its emergency transfer plan, the outcomes of such requests, and retain these records for a period of three years, or for a period as specified in program regulations and guidance. Requests and outcomes of emergency transfers must also be reported to HUD annually. See 24 CFR 5.2005(e)(12). HUD may tailor this form to ask certain questions by selecting different areas of this form that are relevant to specific covered housing programs.

Discussion of Significant Revisions

HUD made changes to the VAWA forms in response to public comment received as part of the 60-day notice-and-comment period. As part of this package, HUD has revised the forms to more closely align with the VAWA Rule and clarify language. In addition to minor changes, HUD makes the specific changes described below.

General Comments

Form readability. Commenters had suggestions to make the forms easier to read and understand. Commenters noted that the forms should be accessible, readable, and understandable for people with low literacy and those who have disabilities, are cognitively impaired, are color blind, or have visual impairments. Another suggested that the forms should be written such that someone who knows nothing about VAWA can understand the housing protections and rights. Some commenters suggested that HUD should strike repetitive or unnecessary words and should streamline the forms to give essential information. Another suggested that HUD should use simpler sentences or a chart form, including for illustrating program-specific terminology. Commenters noted that HUD should ensure it is using consistent language throughout the forms, such as referring consistently to “violence/abuse” instead of just “abuse,” and not alternating between “perpetrator” and “abuser.” Another commenter noted that the distinction between “tenant” versus “household member” is unclear, as is the status of minors. Other commenters suggested that HUD should refer to the Notice of Occupancy Rights by form number and title when it's referenced in the other forms, and HUD should hyperlink documents and resources when referring to them. A commenter noted that HUD should encourage covered housing providers to use plain language and accessible practices in the development of the forms for their use.

HUD response: HUD appreciates these suggestions from commenters. HUD has made edits throughout the forms to address these concerns about readability, including the specific edits described later in this Notice. Housing providers are encouraged to use plain language to the extent possible as they customize these forms.

Language access. Commenters suggested that HUD translate the forms into other languages. One commenter suggested that HUD translate into the top 15 most commonly spoken languages. Commenters stated that HUD should prominently place the language access requirements for the VAWA forms as a stand-alone provision so survivors who have limited English proficiency (LEP) can easily see it and be informed of their right to have the forms interpreted or translated to them if necessary. Currently, the information is too low down on the form and is likely to be missed. A commenter suggested that HUD could create a cover document containing a simple statement in all relevant languages stating that it is an important VAWA document and providing information about where to seek language assistance.

HUD response: HUD anticipates translating the forms into multiple languages, consistent with its Language Access Plan (LAP). The previously published versions of these forms are available in multiple languages on HUD's website. HUD has also revised the forms to emphasize language-access requirements, including placing information about language-access prominently and early on the HUD-5380 proposed form. HUD reminds covered housing providers that they have an obligation to take reasonable steps to ensure meaningful access to their programs and activities by LEP individuals. Covered housing providers should follow their LAPs and conduct the four-fact analysis described in HUD and DOJ guidance to understand the reasonable steps they are required to take, and they must provide language assistance as required.

Administrative burden. Commenters suggested that HUD's estimate of the administrative burden is too low.

HUD response: HUD thanks commenters and has reviewed the burden estimate and does not think further revisions are necessary.

Funding. A commenter asked for funding to assist some VAWA survivors in escaping violence/abuse and for shelters for survivors.

HUD response: HUD appreciates the need for funding to assist VAWA survivors, but it is beyond the scope of this proposed information collection.

Safety and resources for survivors. According to commenters, HUD should ensure information about whether to seek additional help is on each form (5380, 5382, and 5383) because consistent information across all forms will strengthen survivor's access to and awareness of the resources and service options available. Commenters also suggested that the forms provide information about local and culturally specific services, such as by including a link to culturally specific hotlines. Some commenters urged HUD to ensure the forms and related training underscore the danger that survivors face when taking steps to end the abusive relationship and ensure safe housing because housing providers often disregard the danger that survivors face and the urgency of their circumstances, and there must be safety protocols in place when a survivor asserts their rights. Commenters noted that to meet safety planning needs, housing providers need to competently refer the survivors to a provider that understands and is trained on the escalation of violence, lethality indicators, or cultural nuances in the way violence may be described. One commenter supported that the forms list national hotlines, but suggested that HUD should consider whether such groups need training on specific VAWA rights. A commenter proposed that HUD should create a safety planning form for family break-ups and lease bifurcation processes that considers both short-term and long-term needs. Commenters throughout noted that HUD has an obligation to ensure that, whenever possible, survivors are empowered to choose what works best for them, their families, and their situation, and safety planning should take this into consideration.

HUD response: HUD thanks commenters for these suggestions. Where appropriate in the forms, HUD has included information about where to seek additional help, and covered housing providers are strongly encouraged to customize the Notice of Occupancy Rights and Emergency Transfer Plan to include information about local resources and other resources for survivors, consistent with Federal requirements. HUD agrees that it is critical to empower survivors and encourages covered housing providers to work with survivors to best meet their needs and ensure that their VAWA rights are protected so that they do not need to choose between their safety and their housing. HUD will take these comments into consideration as it issues future VAWA guidance.

Lease bifurcation and family breakup. Commenters had suggestions for the lease bifurcation and family breakup processes in general. Some commenters want HUD to make bifurcation more available or otherwise mandatory. A commenter suggested that HUD should make family break-up and lease bifurcation rights available to all survivors, regardless of what program they participate in. A commenter stated that 24 CFR 982.315 empowers the survivor to request that the perpetrator be removed from their Housing Choice Voucher by requiring that following a family-break up, the survivor retain the assistance. The commenter states that all VAWA covered housing survivors, not just those in the HCV program, should be prioritized in this way to retain the subsidy. Another noted that survivors should be able to affirmatively request to have their lease bifurcated and covered housing providers must process those requests and offer, but not mandate, safety planning. A commenter stated that HUD must reverse its position that the availability of lease bifurcation depends on “applicable state law” because it's resulting in inconsistent access to this protection. HUD has the authority to mandate specific lease provisions to allow for lease bifurcation regardless of state law. If HUD does this, it should amend its forms as necessary. Another suggested that HUD should issue guidance to clarify that covered housing providers must have a lease bifurcation policy and should provide lease bifurcations to survivors who are able to verify their status as a survivor.

A commenter asked HUD to clarify that no additional certification besides the HUD-5382 is required for a lease bifurcation. According to a commenter, covered housing providers are interpreting HUD's regulation at 24 CFR 5.2009(a) to elevate the proof requirements when considering bifurcation by putting the burden on survivors to demonstrate a nexus between criminal activity and VAWA violence/abuse. If a bifurcation is denied, all a survivor can do is grieve the decision, but bifurcation is not mandatory and such grievances are not expedited. The commenter states that, therefore, HUD should remove the “criminal activity” requirement.

Commenters suggest that the forms should provide information about lease bifurcation and family break-up, and how it interrelates to emergency transfers. Since emergency transfers are not successful when the perpetrator is on the lease and receiving subsidy, it's important to make survivors aware of bifurcation and family break-up rights. A commenter suggested that the three options need to be viewed collectively as a spectrum of housing retention options for survivors.

HUD response: HUD thanks commenters for this feedback. Many of the suggestions go beyond the scope of this information collection, but HUD will consider them as it engages in rulemaking to implement the most recent reauthorization of VAWA and for future VAWA guidance. HUD directs covered housing providers, survivors, and the public to existing VAWA guidance, specifically PIH-2017-08 (Violence Against Women Reauthorization Act of 2013 Guidance) and H-2017-05 (Violence Against Women Act (VAWA) Reauthorization Act of 2013—Additional Guidance for Multifamily Owners and Management Agents). HUD also reminds covered housing providers that they must comply with the documentation requirements described at 24 CFR 5.2007 when seeking information about an individual's status as a survivor of domestic violence, dating violence, sexual assault, or stalking.

Emergency Transfers. Commenters had suggestions for the emergency transfer requirements under VAWA. Commenters asked HUD to stop distinguishing between internal and external transfers, since internal transfers rarely protect safety or reduce trauma and external transfers rarely occur. Instead, they request that HUD require transfers when there is an available, safe unit within the same subsidy program (or, in the case of RAD converted projects, also to public housing units) regardless of waitlist. Others suggested that HUD should consider transfers to other properties owned and/or managed by the same entities as internal transfers, requiring providers to coordinate across their own portfolios to facilitate survivor relocation. Commenters also noted that HUD should mandate that covered housing providers cover moving expenses for an emergency transfer. A commenter recommended that HUD should encourage providers to utilize their resources or partner with community organizations to alleviate survivors' cost burdens when there's a transfer.

HUD response: HUD thanks commenters for these suggestions, but they go beyond the scope of this proposed information collection. With respect to moving costs, while HUD's regulations do not make covered housing providers responsible for covering moving costs for survivors, HUD encourages covered housing providers to bear these costs where possible, or to work with victims to identify possibilities for funding transfers.

Confidentiality. A commenter noted that HUD must do more to protect survivors' confidentiality and hold accountable providers who violate confidentiality rules. The commenter directed HUD to available resources on confidentiality practices.

HUD response: HUD reiterates that complying with the confidentiality requirements in HUD's VAWA regulations is critical for protecting survivors' safety. If a survivor believes their VAWA confidentiality rights have been violated, they may file a complaint with HUD's Office of Fair Housing and Equal Opportunity (FHEO).

Failure to issue notices and forms. A commenter requested that HUD make clear that compliance and occupancy reviews of HUD covered housing programs will flag covered housing providers who fail to issue required HUD VAWA notifications and plans and will cite them for corrective action.

HUD response: HUD thanks commenters for their feedback. Covered housing providers are required to comply with HUD's regulations implementing VAWA at 24 CFR part 5, subpart L, which include requirements for when these forms must be provided or otherwise made available, and HUD will enforce these requirements as applicable.

Lease addendum. A commenter stated that HUD should require covered housing providers to use a VAWA lease addendum, and covered housing providers should have to certify that they are using it and that households are informed about the terms of the addendum during initial lease signing and subsequent renewals.

HUD response: HUD's existing VAWA regulations require descriptions of VAWA protections in leases, lease addendum or contracts, as specified in the regulations for the HOME, HOPWA, ESG, and CoC programs. For the Housing Choice Voucher program under 24 CFR part 982, the project-based voucher program under 24 CFR part 983, the public housing admission and occupancy requirements under 24 CFR part 960, and renewed funding or leases of the Section 8 project-based program under 24 CFR parts 880, 882, 883, 884, 886, as well as project-based section 8 provided in connection with housing under part 891, the HUD-required lease, lease addendum, or tenancy addendum, as applicable, must include a description of specific protections afforded to the victims of domestic violence, dating violence, sexual assault, or stalking, as provided in HUD's regulations implementing VAWA at 24 CFR part 5, subpart L.

Technical assistance. Commenters noted a need for VAWA training and technical assistance on various topics, such as VAWA's housing provisions, facilitating emergency transfers, partnering with victim service providers, and meeting reporting requirements.

HUD response: HUD appreciates the commenters' feedback and is working closely with VAWA Technical Assistance Providers to provide training and technical assistance that will address these needs.

Form HUD-5380

Form readability. A commenter states that the revisions to the form are an improvement and make it easily readable. The commenter believes the question-and-answer format will assist residents in understanding what is required of them to assert their rights.

Other commenters had suggestions to make the form more readable. A commenter notes that the question “What is the Violence Against Women Act (VAWA)” is followed by information that does not answer the question, and it does not explain that VAWA is a federal law that provides survivors rights in housing. Additionally, the definition of VAWA violence contains terms not defined in the form. To keep the document short and simple, a commenter suggested including an appendix or cross-referencing the definitions in HUD-5382, since that form must be provided at the same time. Another commenter recommended that HUD should include a chart addressing the answer to the question, “how can I remove an abuser from my household” by each program.

A commenter notes that due in part to confusing language in the form, some housing providers may think that survivors of sexual assault are only eligible for an emergency transfer if the assault occurred on the property in the prior 90 days, but such survivors are also eligible if they have a reasonable fear of further violence if they remain in the housing.

HUD response: HUD thanks commenters for their responses and agrees that the forms should be as simple as possible and accessible to a wide audience. HUD has made edits to the response to the question on the form that asks “What is the Violence Against Women Act (VAWA)” to better explain that it is a Federal law that protects survivors' housing rights. HUD has also included additional definitions; an answer to the question, “Can the perpetrator be evicted or removed from my lease?”, and has added a chart to provide responses by program to the question, “What happens if the lease bifurcation ends up removing the only tenant who qualified for the housing or assistance?”

HUD also made edits to emphasize that survivors of sexual assault are eligible for an emergency transfer either based on a fear of imminent harm from further violence or because the assault occurred on the property in the prior 90-days. These edits include capitalizing and bolding the words “either” and “or,” and including a designated note that reiterates this point.

Form title. A commenter recommends changing the title to “Rights for Survivors” or “Help for Survivors” because these are public facing documents and this will inform more survivors and help them understand that the Notice contains rights they have under Federal law. The Commenter notes that other Federal agencies have simplified titles of documents to help members of the public understand their rights.

HUD response: HUD appreciates commenter's recommendation but declines to make this change. The title of this form is included in HUD's regulations implementing VAWA at 24 CFR 5.2005(a), limiting HUD's ability to make this change through the Paperwork Reduction Act process. Additionally, such a change is likely to cause confusion.

Confidentiality. A commenter states that HUD should include confidentiality requirements in Form 5380, particularly the requirement prohibiting personally identifying information about survivors without informed, time-limited written consent. The form should clarify that the release must be in writing and time-limited.

HUD response: While the form already included some information about confidentiality, HUD has now expanded the discussion of confidentiality to include the requirements that commenters mentioned.

Bifurcation. A commenter states that the bifurcation language, while it helps survivors understand that their housing provider may remove the abuser from the lease, is too dense. The commenter recommends streamlined language. Additionally, HUD should amend the answer to the question, “How can I remove an abuser from my household?” to make clear that survivors can affirmatively request their lease bifurcated and that covered housing providers are required to have a lease bifurcation policy.

HUD response: HUD has amended the question, “How can I remove an abuser from my household?” to instead ask, “Can the perpetrator be evicted or removed from my lease?” and provided a simplified response that explains that depending on the specific situation, a covered housing provider may be able divide the lease to evict just the perpetrator and this is called “bifurcating the lease.”

Adverse factors. A commenter notes that VAWA prohibits covered housing providers from denying admission to, denying assistance under, terminating participation in, or evicting a tenant based on an adverse factor, if the adverse factor is determined to be a direct result of the fact that the applicant or tenant is or has been a victim of domestic violence, dating violence, sexual assault, or stalking. HUD should include the list of adverse factors that it has included in its guidance in the form in order to provide notice to survivors.

HUD response: HUD thanks commenters for this suggestion but declines to add the list of adverse factors to form HUD-5380. HUD has included a list of examples of adverse factors in guidance, specifically PIH-2017-08 (Violence Against Women Reauthorization Act of 2013 Guidance) and H-2017-05 (Violence Against Women Act (VAWA) Reauthorization Act of 2013—Additional Guidance for Multifamily Owners and Management Agents). This guidance includes non-exhaustive lists of potential adverse factors that could be a direct result of domestic violence, dating violence, sexual assault, or stalking. Covered housing providers and survivors are encouraged to use this guidance, but there may be other adverse factors, in addition to those included in these lists, that are also a direct result of domestic violence, dating violence, sexual assault, or stalking. The determination of an adverse factor will be fact specific. Because of this, and to limit the length of these forms, HUD has not added a list of adverse factors to HUD-5380.

Reasonable accommodations. Commenters recommend changes to better address reasonable accommodations that may be necessary for individuals with disabilities. HUD should revise the form to inform survivors that individuals with a disability may make a reasonable accommodation request at any time, including for the first time in an eviction. Also, the form should inform survivors that the law prohibits the housing provider from inquiring about the nature of the survivor's disability and that in the event of a denial of a reasonable accommodation, the housing provider may need to engage in the interactive process to determine the accommodation that will work to allow survivors to submit their forms. Additionally, HUD should include a footnote to joint HUD-DOJ guidance about reasonable accommodations.

HUD response: HUD appreciates commenter's suggestions and has added much of this information to the form while still ensuring that it is consistent with relevant fair housing and civil rights laws, including the Fair Housing Act, Section 504 of the Rehabilitation Act, and the Americans with Disabilities Act.

Actual and imminent threat. Commenters state that HUD needs to make clear that the actual and imminent threat exception to VAWA is quite limited by regulation and sub-regulatory guidance. HUD should include the factors under 24 CFR 5.2003 that a PHA or housing provider must consider in determining whether a situation involving a survivor falls under the “actual and imminent” exception. Without clarification, it appears that evicting a survivor without examining if there are mitigating circumstances is lawful. As boldly and prominently as HUD can make it, HUD should state that evictions should only occur if there is no other action to be taken that would reduce or eliminate the threat.

HUD response: VAWA does not limit covered housing providers' authority to terminate assistance or evict a tenant under a covered housing program in the limited circumstances in which a covered housing provider can demonstrate an actual and imminent threat to other tenants or those employed at or providing service to the property of the covered housing provider would be present if that tenant or lawful occupant is not evicted or terminated from assistance. An actual or imminent threat is one in which there is physical danger that is real, would occur within an immediate time frame, and could result in death or serious bodily harm. In determining whether an individual would pose an actual and imminent threat, the factors to be considered include the duration of the risk, the nature and severity of the potential harm, the likelihood that the potential harm will occur, and the length of time before the potential harm would occur. Only if no other action can be taken to reduce or eliminate the threat should a covered housing provider evict or end the assistance of the survivor. HUD has edited the answer to the question, “Are there any reasons that I can be evicted or lose assistance?” to better convey that this is a limited circumstance, and that eviction or termination should only be used as a last resort.

Documentation. Commenters are concerned that the HUD-5380 does not adequately explain the types of documentation that a survivor may provide to establish their status as a survivor of VAWA violence/abuse, as described at 24 CFR 5.2007. HUD needs to revise the documentation section to include that a statement or other evidence can be used to satisfy a documentation request, and the housing provider must describe it in detail. Another commenter stated that this option (“any other statement or evidence that can be provided as documentation the applicant or tenant is a victim”) should be separated from the third option in the list of available documentation and have its own section. Additionally, the Notice needs to be clear that a covered housing provider is not required to request documentation when a survivor requests protections. Further, HUD needs to clarify that it is the survivor's choice about what form of documentation to provide and that the covered housing provider must accept this documentation and may not seek additional documentation. HUD also needs to clarify on the forms that only one form of documentation is required unless the documentation does not meet the criteria or there is conflicting information, as provided in HUD regulations.

HUD response: HUD regulations provide a list of permissible types of documentation that a covered housing provider must accept from a tenant or applicant when the covered housing provider requests documentation of the occurrence of domestic violence, dating violence, sexual assault, or stalking. To address commenter's concerns that the fourth type of acceptable documentation (“at the discretion of a covered housing provider, a statement or other evidence provided by the applicant or tenant”) be appropriately accounted for, HUD has revised the form to list this option on a separate line with its own numbering. HUD has also revised the response to the question, “What do I need to document that I am a victim of VAWA abuse/violence?” to clarify that only one form of documentation is required and that the survivor chooses which type of documentation to provide. HUD also added more information about the requirements that apply when a covered housing provider receives conflicting information.

Failure to issue the HUD-5380. A commenter suggests that HUD should state that a failure to send the Notice with any notification of termination of subsidy or tenancy renders the termination notice defective under HUD regulations.

HUD response: Where the form discusses the limited circumstances in which a survivor can be evicted or lose their assistance, HUD has included a reminder that covered housing providers must provide a copy of Form HUD-5380 and Form HUD-5382 with eviction or termination notices and prior to termination of tenancy.

VAWA complaints. Commenters suggest that HUD should add information on the Office of Fair Housing and Equal Opportunity (FHEO) new complaint process for potential VAWA violations under “have your protections under VAWA been denied?” The current information about contacting HUD field offices is insufficient because field offices are rarely equipped to process complaints.

HUD response: HUD has revised the form to include a link to FHEO's website which provides more information about filing a complaint and the link to the complaint form.

Form HUD-5381

Readability. Commenters state that the drafting notes are helpful and will help correct the issue of housing providers failing to provide necessary specific information.

HUD response: HUD thanks commenters for this feedback.

Use as a model form. Commenters are concerned that housing providers cannot rely on the model plan to be fully in compliance with the law. The intent of the statute was to make it easier for housing providers to comply with VAWA, but HUD's template requires each provider to “reinvent the wheel” and thus is not a “model” plan. Housing providers do not have equal level of resources and smaller ones are relying on their ability to adopt HUD's form. A commenter suggested that HUD provide a model plan for each applicable program that can be effectively used with only minor customization. Another suggestion is to provide a “key elements” notice that informs tenants of the key elements that need to be present in emergency transfer plans.

A commenter recommends specific jurisdictions for HUD to evaluate emergency transfer policies as it considers its model plan because commenter believes these jurisdictions' plans demonstrate a level of commitment, innovation, and partnership to support survivors.

HUD response: HUD appreciates this feedback from commenters. HUD's Model Emergency Transfer Plan serves as a model, but it is inherently necessary for covered housing providers to customize the form to their program and their housing portfolio to account for the distinctions among both program requirements and the discretionary choices made by covered housing providers. HUD has revised some drafting notes and customization instructions to clarify the necessary elements that covered housing providers must fill in.

Burden estimate. A commenter thinks the number of hours required to tailor the HUD model plan is closer to 24 hours, not 8 as HUD suggests.

HUD response: HUD thanks commenters and has reviewed the burden estimate and does not think further revisions are necessary.

Defining timeframes. Commenters state that HUD should require providers to provide a timeframe for processing Emergency Transfer requests. Further, covered housing providers should identify a time frame by which they will confirm receipt or respond to a survivor's request.

HUD response: While the form already prompts covered housing providers to insert time frames as part of their policies, HUD has clarified that it means time frames “for approving or denying an emergency transfer request.”

Availability of emergency transfer plans. A commenter states that Emergency Transfer Plans must be publicly available, including being displayed prominently on housing provider websites and tenant-accessible bulletin boards. They further suggest that any member of the public should be able to receive a free copy of the plan in whatever format is accessible to them, and HUD should give further guidance on how to make plans publicly available using these methods.

HUD response: HUD thanks commenters for these suggestions but declines to make changes to the form. HUD regulations at 24 CFR 5.2005(e)(11) require emergency transfer plans to be made publicly available when feasible, and the forms already conform to this standard. However, HUD notes that it is not aware of any instances in which it has been infeasible to make a plan publicly available, such as by posting it on a covered housing provider's website or having a physical copy available in the covered housing provider's office, and HUD will consider issuing further guidance on this subject.

Safety. Commenters suggest that Emergency Transfer Plans must allow survivors to consent in writing for a victim service provider, culturally specific organization, legal aid organization, friend, or family to be their point of contact to protect safety.

HUD response: HUD declines to make this a mandatory requirement, but covered housing providers are encouraged to include a section on “Safety and Security of Tenants” in their emergency transfer plans. HUD reminds covered housing providers that survivors may have different needs based on their circumstances and that they should strive to communicate with survivors in the way that best meets the survivor's safety needs.

Memoranda of understanding. A commenter states that HUD should include more details in its drafting notes about what a memorandum of understanding should include, why it's important to establish cross-provider partnerships, and that covered housing providers who are establishing these memoranda should work with victim service providers, culturally-specific organizations, and local HUD offices. This is particularly important because emergency transfers are difficult in project-based Section 8 housing and other HUD multifamily housing.

HUD response: HUD thanks commenters for these suggestions but declines to make these changes. HUD believes this information is more appropriately conveyed in guidance and technical assistance, and HUD will consider future information the agency can release on this subject.

Transfer prioritization. A commenter states that HUD needs to provide more guidance on how to prioritize emergency transfer requests. The commenter points out an example of how a large public housing agency considers such transfer requests “resident-initiated” and thus low-priority, and, as a result of their policies for processing such transfers, VAWA survivors may have to wait over a year to move after an emergency transfer request has been approved.

HUD response: HUD will consider issuing guidance on this topic.

Protection of emergency transfer rights. A commenter states that HUD should include language in the forms that better explains to survivors the difference between an internal and an external transfer. The language from the Notice of Occupancy Rights should be included in the model plan regarding what a household can do if their transfer request is denied or other VAWA rights are otherwise violated.

HUD response: The forms provide space for covered housing providers to describe their policies for internal and external emergency transfers. HUD expects that covered housing providers will fill in information with respect to their specific policies. Survivors should also be provided with the Notice of Occupancy Rights at all required times, and that document also elaborates on emergency transfer requirements and information, if a survivor believes their rights have been violated.

Status in “good standing.” Commenters state that HUD needs to more directly state that whether a survivor is in good standing is irrelevant to the determination of whether they qualify for an emergency transfer. The current use of the words “should not” suggests that a provider may, if they choose, consider whether the survivor is in good standing when making the determination. They further suggest that HUD should provide examples of not being in good standing and explain that sometimes, this is due to VAWA violence/abuse, and HUD guidance such as PIH-2017-08 provides clear explanations of adverse factors that might be a direct result of VAWA violence/abuse, including examples that directly connect to good standing.

HUD response: HUD thanks commenters for these suggestions. Where the form notes that covered providers should not evaluate whether a tenant is in good standing when assessing eligibility for an emergency transfer, HUD has added, “Whether or not a tenant is in good standing does not impact their ability to request an emergency transfer under VAWA.” HUD notes that survivors, covered housing providers, and others are encouraged to review existing HUD guidance, including PIH-2017-08 (Violence Against Women Reauthorization Act of 2013 Guidance) and H-2017-05 (Violence Against Women Act (VAWA) Reauthorization Act of 2013—Additional Guidance for Multifamily Owners and Management Agents) for further guidance on adverse factors.

Form HUD-5382

Confidentiality. Commenters suggest that HUD should adopt protocols to ensure the safety of the survivor and the confidentiality of their status as a VAWA survivor, including but not limited to clarifying the question that asks a survivor to identify the best method of contact. It should be reframed to ask through which method of contact they can “safely and securely receive communications” regarding their rights and options, and should leave additional space for other circumstances to consider when communicating with a survivor. The form should note that survivors can regularly update their contact information as needed for safety purposes. The form should also permit a survivor to offer written consent and a release of information to another person, such as an advocate or lawyer, as the point of contact.

HUD response: HUD has revised the section of the form that asks a survivor to provide contact information in response to these comments. The question now asks for the “safest and most secure way” to contact a survivor and allows them to select multiple options. It also provides space for survivors to include other information in response to a newly added question, “Are there any additional circumstances your covered housing provider should consider to ensure your safety before communicating with you?”

Reasonable accommodations. Commenters state that the form should inform survivors that the law prohibits the housing provider from inquiring about the nature of the survivor's disability and that in the event of a denial of a reasonable accommodation, the housing provider may need to engage in the interactive process to determine the accommodation that will work to allow survivors to submit their forms.

HUD response: HUD thanks commenters for these suggestions. HUD has revised the response to the question, “Can I request a reasonable accommodation?” to provide more information regarding reasonable accommodations that may be necessary for individuals with disabilities.

Actual and imminent threat. A commenter suggests that as boldly and prominently as HUD can make it, HUD should state that evictions should only occur if there is no other action to be taken that would reduce or eliminate the threat.

HUD response: As explained elsewhere in this Notice, HUD has revised Form HUD-5380 to address commenter's suggestions regarding actual and imminent threat. Form HUD-5380 must be provided to survivors along with the HUD-5382.

Failure to issue the form. A commenter states that HUD should make clear that failure to send the 5382 with any notification of termination of subsidy or tenancy renders the termination notice defective under HUD regulations.

HUD response: As noted above, where the HUD-5380 form discusses the limited circumstances in which a survivor can be evicted or lose their assistance, HUD has included a reminder that covered housing providers must provide a copy of Form HUD-5380 and Form HUD-5382 with eviction or termination notices and prior to termination of tenancy.

Form HUD-5383

Readability. A commenter recommends removing the check boxes under number 9 (“Note”) because they're confusing and suggested using bullets instead.

HUD response: HUD retains the check boxes so survivors can indicate which features they are requesting.

Requesting contact information. Commenters support changes made to this form regarding the best contact method for survivors and encourage further changes including allowing contact information to be updated, and providing space for survivors to list additional considerations, such as calling at certain times of day and not identifying the reason for the call if the survivor is not alone. The form should include space for survivors to give consent to speak with or work through a third-party, as allowed by confidentiality provisions, to support survivors who are under surveillance from the person harming them and offer additional safety means to communicate. Under the Best Method of Contact section, the form should allow space to list this third-party contact and consent to communicate with that contact.

HUD response: HUD has revised the section of the form that asks a survivor to provide contact information in response to public comments. The question now asks for the “safest and most secure way” to contact a survivor and allows them to select multiple options. It also provides space for survivors to include other information in response to a newly added question, “Are there any additional circumstances your covered housing provider should consider to ensure your safety before communicating with you?” HUD reminds covered housing providers that survivors may have different needs based on their circumstances and that they should strive to communicate with survivors in the way that best meets the survivor's safety needs.

Additions to the form. Commenters suggest additions to the form. The form should provide space for survivors to identify if they will be temporarily absent from the unit to eliminate common issues caused by the survivor's absence, including a housing provider issuing an eviction notice or considering the unit vacant.

Commenters further suggest that HUD should explicitly identify space for survivors to request a reasonable accommodation, including space to describe what is needed. The form should also explain what a reasonable accommodation is in the explanatory section at the beginning of the form.

Commenters also state that the form should include a section for survivors to request bifurcation of the lease. This section should be at the top of the form so survivors understand they have options to address both short-term and long-term needs. The form should make clear that is not either/or when it comes to bifurcation and emergency transfers, and both can be requested at the same time.

HUD response: HUD thanks commenters for their suggestions but believes the Form HUD-5383 should be tailored as narrowly as possible for use as an emergency transfer request form to minimize confusion and be as simple for use as possible. HUD has edited the form to provide space for additional circumstances for the covered housing provider to consider so as to ensure safety before communicating with a survivor, and survivors can include additional information in that space, such as if they will not be reachable in the unit for safety purposes. Similarly, HUD has provided space in the section that asks a survivor what features they are requesting for a safe unit, and survivors may write-in other applicable considerations here that would facilitate a suitable transfer, such as accessibility needs. The other forms in this package also explain that individuals can request a reasonable accommodation for a disability, and covered housing providers remain subject to obligations to provide reasonable accommodations as applicable under laws including the Fair Housing Act, Section 504 of the Rehabilitation Act, and the Americans with Disabilities Act.

Safety considerations. Commenters support HUD's options for survivors to identify features of a safe unit. They note additional factors include whether a unit allows essential parts of their safety network to remain accessible, such as job, childcare, healthcare, family, or victim service providers, and HUD should include access to safety network supports as an option in the section. The list reads as an exclusive list as written, even though it does provide an option for “other.”

HUD response: HUD does not intend for the list of potential requested features to be an exclusive list. HUD regulations at 24 CFR 5.2005(e)(1)(iii) establish that a safe unit is one that the survivor believes is safe. HUD anticipates that survivors will have varied, fact-specific safety needs that will impact whether a unit for transfer is safe, and, therefore, the list provided in the form is intended to capture common potential features, but it cannot include every potential feature that a survivor may need. To address commenter's concern, HUD has included additional space for a survivor to write in “other” requested features. While the form included limited space before, HUD has revised the form to provide more room for survivors to write-in their needs when they select the “other” box.

Confidentiality. Commenters note that confidentiality is critical to ensure safety and to alleviate fear of reporting violence. They further suggest that consequently, HUD should inform survivors that they can request a compliance review from HUD if their information is improperly shared.

HUD response: If a survivor believes their VAWA confidentiality rights have been violated, they may file a complaint with HUD.

Use as an optional form. A commenter states that while the form is optional, HUD should make clear that all information contained in the form must be asked in writing by covered housing providers as survivors seek help.

HUD response: HUD's regulations and guidance do not address this specific issue. HUD will consider releasing further guidance on this matter in the future.

VAWA Emergency Transfer Data Collection Form

Support for the information collection. Commenters state that they support HUD's collection of this information and in defining what data covered housing providers must collect and report to HUD regarding emergency transfers. They further indicate that if done correctly, it will inform owners, agents, program offices, and HUD on both the effectiveness of existing emergency transfer plans and barriers to providing survivors such transfers.

HUD response: HUD thanks commenters for this feedback.

Submission of reports. Commenters raise concerns regarding methods for data collection suggesting that the data collection should be streamlined and not entail a new system. They also suggest that HUD develop standardized tools for covered housing providers. A commenter recommends that HUD review this information during Management and Occupancy reviews (MORs) performed at assisted housing sites and record the information in the appropriate HUD database. According to a commenter, for the Voucher program, HUD should coordinate the submission of data with other data collection requirements and record the information in the appropriate HUD database.

HUD response: HUD appreciates commenters' concerns about efficiently collecting this information in a way that minimizes burden on covered housing providers to the extent possible. HUD intends to collect the information in the form through different methods depending on the program so that it can tailor the collection method to address this concern. Methods may include email communication, DocuSign, Microsoft Forms, or any other survey method collection.

Accuracy of the burden estimate. A commenter notes that the proposed information collection may require new systems to be developed, which will take time and resources. The commenter states that HUD needs to develop standardized tools for covered housing providers to use to facilitate the process to ease burden. Another commenter suggests that burden estimate will vary based on factors such as the internal structure of the program, whether the covered housing program has an operable and streamlined emergency transfer plan, and whether HUD will develop an electronic tracking sheet.

HUD response: HUD thanks commenters for this feedback and has considered it in its burden estimate.

Ways to enhance the quality, utility, and clarity of the information to be collected. Commenters state that HUD should use a standardized data collection form. HUD should use close-ended questions with standardized answer options because it will allow for better evaluation of the data. A mix of quantitative and qualitative information will allow for a more robust assessment. A commenter reminds HUD that it will need to make sure there is consistency among responses within a given report, to ensure reliable information is being collected.

HUD response: HUD has taken these suggestions into account in developing the questions in the form. The questions seek to collect both quantitative and qualitative information and aggregate data, and some questions are broken into parts that are intended to build on each other to ensure internal consistency.

Is HUD's list of potential outcomes adequate or are there outcomes that should be added or modified? A commenter states that the list of potential outcomes is adequate. Another commenter notes that the list of outcomes is great, and HUD can add additional outcomes. This includes adding process outcomes by program to capture the steps and processes used to develop best business practices. For example, looking at whether the covered housing provider has a VAWA coordinator, whether there's a step-by-step process for conducting transfers, whether there's software for searching housing across a portfolio, are there alerts when a unit becomes available, and the relationships that exist. For internal transfers, HUD should consider collecting data on how many requests resulted in transfers and did other transfers take precedence over the VAWA emergency transfer, and if so, why? For external transfers, HUD should collect information on how many requests resulted in transfers and of those, how many were to units in the covered housing provider's portfolio and how many not in their portfolio, as well as whether the receiving location had a VAWA preference.

HUD response: HUD appreciates commenters' suggestions and has included many of them in the form. HUD proposes to ask about whether a covered housing provider has a VAWA coordinator, the relationships that exist for facilitating transfers, and other process questions.

What is an appropriate measure for “length of time” for emergency transfers? Should a covered housing provider only measure from when the emergency transfer was requested to approval/denial and/or should it be measured to move-in date? If a victim is issued a Housing Choice Voucher (HCV) as a result of their emergency transfer request, should the length of time be measured from request to voucher issuance and/or lease-up date? A commenter suggests that the length of time should be based on the initial request and approval/denial decision or voucher issuance. Basing the measurement on move-in date or lease-up date would be an inaccurate reflection of the housing provider's obligations, since they do not have control over when the tenant can move. Another commenter said that a covered housing provider should measure both from when the request was made either orally or in writing to both the approval date and move-in date. The obligation continues past the approval of the transfer, but measuring only by move-in date does not facilitate the prompt processing of requests. For survivors who are issued Housing Choice Vouchers (HCVs), the length of time should be measured from the transfer request to both the issuance of the voucher and lease-up date. This will help identify barriers to using vouchers and if there are patterns of discrimination.

Commenters note that the appropriate measure may vary. A reasonable timeframe depends on multiple factors, including whether the program has flexibility because it is inherently mobile or allows for short-term placements for a survivor; the covered housing provider's housing portfolio, both in terms of size, number of management companies, internal waiting lists, preferences, and other criteria; and the housing stock available for the unit size and type in the appropriate geographic area, including turnover, waitlists, and preferences. Timeframe should be established by providing program-specific best practices.

HUD response: HUD thanks commenters for this feedback. Based on these responses, HUD proposes to use multiple metrics to measure the timeframe. The form asks covered housing providers how long it took for VAWA emergency transfer requests to be approved, denied, or determined to be incomplete after they were received (i.e. the time between when a request was expressly made to when the housing provider finished its review and (1) approved the request, (2) denied the request, or (3) determined that the request was incomplete). The form also asks how long it took for VAWA emergency transfer requests to be completed after they were approved (i.e., the time between when a request was approved to when the tenant has moved into a safe unit). The form then asks for length of time for VAWA emergency transfer requests to be completed after they were received (i.e., the time between when a request was expressly made to a housing provider to when the tenant has moved into a safe unit).

Should covered housing providers be able to explain the circumstances that affected the length of time for emergency transfers (e.g., the victim turned down offered units due to safety concerns)? A commenter asserts that covered housing providers should not be required to explain the circumstances that affected the length of time for emergency transfer but should be able to offer that voluntarily for HUD to document.

Other commenters assert that covered housing providers should be required to explain the circumstances that affected the length of time for emergency transfers. Documenting efforts to comply with legal requirements is standard operating procedure and holds the covered housing provider accountable. It also protects staff and prevents liability. Similar processes are used for tracking reasonable accommodation requests. Understanding the reasons why is key for covered housing providers to self-evaluate their policies and practices and take corrective steps as necessary, and allows HUD to identify best practices.

HUD response: HUD appreciates commenters' feedback. In the form, HUD asks questions to collect data on the circumstances that affected the length of time for emergency transfers, but the questions are designed such that covered housing providers will report aggregate data instead of explaining each request individually. HUD believes this will minimize burden on covered housing providers while still allowing for the collection of vital information that can be used to improve the emergency transfer process and ensure that survivors are receiving their VAWA protections, and their safety is prioritized.

Additional emergency transfer information for HUD to collect. Commenters suggest other categories and types of data for HUD to collect about emergency transfers. Commenters recommend that HUD track the number of survivors who leave a housing program while their emergency transfer is pending. Since emergency transfers can take months to years to complete and survivors are left in unsafe housing, HUD should track whether the survivor gave up the subsidy, abandoned the unit, or was evicted while the transfer was pending. Another commenter suggests tracking the safety measures requested and provided while the transfer is pending.

Covered housing providers should report on the average length of time between an emergency transfer request and approval and average length of time between approval and the tenant moving-in to the new housing unit. HUD should also collect whether the tenant was denied an emergency transfer and the reason why if so. If the denial occurred, did the covered housing provider identify another unit? A commenter suggests tracking the geographic location of the site being requested to transfer from and the parameters of the requested geographic area.

Commenters suggest that covered housing providers should identify partnerships with local victim service providers and culturally specific organization and the amount of referrals made through that partnership. A commenter suggests tracking whether the survivor was working with an advocate and including a “no-knowledge” checkbox if the housing provider doesn't know. HUD should also ask if the covered housing provider had a working relationship with a service provider who assisted in the process.

Commenters note that providers should identify if they have a VAWA coordinator on staff, including the number of hours the staff person has dedicated to this role and how many survivors have utilized this service. If they do not have a coordinator, they should identify who facilitated the emergency transfers.

Commenters further recommend that providers should report if they have or have considered an admission preference, and if they determined not to provide a preference, the covered housing provider should explain the analysis it used. Covered housing providers should also describe the priority given to VAWA transfer requests relative to other transfer requests, such as overcrowding, reasonable accommodations and non-tenant initiated emergencies, and to waitlist applicants.

Commenters also state that providers should report on how many emergency transfer requests are coupled with requests for an accessible unit or a reasonable accommodation request, and how many emergency transfers are requested in this situation and whether needs are met. Providers should also report if residents needed reasonable accommodations to participate in the emergency transfer request process. Providers should also report on whether the requestor had limited English proficiency and if so, what language they requested be used.

A commenter suggests that providers should report on how many emergency transfer requests are provided to survivors of sexual assault that are not premised on fear of imminent threat of future violence.

A commenter recommends that HUD should collect from providers a list of explanations for why admission to a housing program is denied and track whether decisions are later reversed for a VAWA-related reason, such as by tracking how many applicants submitted a VAWA 5382 and were later admitted.

A commenter further notes that providers should list all moving resources/transfer costs they provide and the number of survivors who have utilized these resources for a VAWA emergency transfer.

A commenter recommends that providers should use a point-in-time count to track the number of internal and external units they have available for transfer. HUD should collect data on both inter- and intra-development transfers separately. Public Housing Agencies (PHAs) should be required to report how residents in former public housing units converted to project-based vouchers under the Rental Assistance Demonstration (“RAD”) program have access to both RAD and public housing units within the housing authority's jurisdiction in the event they need to seek an emergency transfer, since there is a statutory obligation that former public housing tenants in RAD converted properties retain the same rights and protection they had prior to conversion.

HUD response: HUD thanks commenters for these suggestions. As explained elsewhere in this Notice, HUD designed this form to collect aggregate information about emergency transfers, as opposed to collecting information on each individual transfer request. HUD believes that this will produce the most useful data, minimize burden on covered housing providers, and protect the confidentiality of individual survivors. To that end, HUD has incorporated commenters' suggestions to the extent possible within this framework.

The form asks covered housing providers to report on why emergency transfer requests were not completed, which includes an option for “victim vacated unit.” The form also collects information about why an emergency transfer request was denied. There is also space for housing providers to indicate types of safety measures they offer, such as offering interim housing for survivors waiting for emergency transfers.

As explained elsewhere in this Notice, HUD also seeks to collect information about timeframes throughout the emergency transfer process. As commenters suggested, the form proposes to collect information about how long it takes for a VAWA emergency transfer request to be completed after it is approved. The form also asks about incomplete and denied emergency transfer requests.

HUD also proposes to collect other information suggested by commenters, including whether covered housing providers: collaborate or coordinate with public housing authorities, Continuums of Care, owners/managers, consortiums, or other providers for purposes of providing housing and services for victims; offer interim housing for VAWA victims waiting for emergency transfers; provide a waitlist preference for victims of domestic violence, sexual assault, dating violence, and stalking; have a VAWA service coordinator or someone who functions as a VAWA service coordinator; and conduct outreach activities to organizations that assist or provide resources to VAWA victims. HUD declines to collect all of the information suggested by commenters, as the form must prioritize collection of certain emergency transfer information to maximize the utility of the data collected while balancing concerns about burden on covered housing providers. HUD thanks commenters for these suggestions and will consider other ways to issue guidance on these and related matters.

Respondents: Public housing agencies, private multifamily housing owners and management agents, state and local agencies, and grant recipients.

Estimated Number of Respondents: 293,176.

Estimated Number of Responses: 5,044,764.

Frequency of Responses: Varies. For the HUD-5380, there are approximately 3,918 Public Housing and Housing Choice Voucher respondents with 65 responses per respondent. For Multifamily Housing, there are approximately 23,000 respondents with 34 responses per respondent. For HOME, there are 1,874 respondents with approximately 44 responses per respondent. For HOPWA, there are 255 respondents with 50 responses per respondent. For Homelessness programs (CoC, ESG, Rural Housing Stability) there are 6,350 respondents with 7 responses per respondent.

Each respondent indicated will have to complete an emergency transfer plan using the HUD-5381 or other format. For the HUD-5382 certification for documentation by survivor and emergency transfer request, there are approximately 231,965 responses.

Average Hours per Response: Varies depending on form (0.44 based on total burden hours/total responses).

Total Estimated Burden Hours: 2,230,480.58.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comments in response to these questions.

C. Authority

Section 3507 of the Paperwork Reduction Act of 1995, 44 U.S.C. 3507.

Colette Pollard,
Department Reports Management Officer, Office of Policy Development and Research, Chief Data Officer.

[FR Doc. 2024-15555 Filed 7-15-24; 8:45 am]

BILLING CODE 4210-67-P